DEPARTMENT OF THE INTERIOR

Fish and Wildlife Service

Notice of Receipt of Application for an Endangered Species Permit

AGENCY: U.S. Fish and Wildlife Service, Department of the Interior.

ACTION: Notice of receipt.

SUMMARY: The following applicant has applied for a permit to conduct certain activities with an endangered species. This notice is provided pursuant to section 10(c) of the Endangered Species Act of 1973, as amended (16 U.S.C. 1531 et seq.):

PRT-TE085765

Applicant: University of Maine, Orono, Maine.

DATES: Written data or comments on this application must be received at the address given below by 30 days from date of publication.

ADDRESSES: Documents and other information submitted with this application are available for review by any party who submits a written request for a copy of such documents to the following office within 30 days of the date of publication of this notice: U.S. Fish and Wildlife Service, 300 Westgate Center Drive, Hadley, Massachusetts 01035. Attention: Diane Lynch, Regional Endangered Species Permits Coordinator, telephone: (413) 253-8628; facsimile: (413) 253-8482.

FOR FURTHER INFORMATION CONTACT: Diane Lynch, telephone: 413-253-8628; facsimile: 413-253-8482.

SUPPLEMENTARY INFORMATION: You are invited to comment on the application from the University of Maine, PRT-TE085765. This application requests authorization to take (harass, in the form of stress, and kill) Gulf of Maine, distinct population segment (DPS), Atlantic salmon (Salmo salar) stocks, for scientific purposes. DPS stocks for this study include stock from the Denny's, Machias, East Machias, Pleasant, Sheepscot, and Narraguagus Rivers. No wild fish will be used in this study, only stocks currently propagated at the Craig Brook National Fish Hatchery. This proposal seeks to monitor and evaluate certain tasks associated with juvenile salmon stocking and survival. The proposed plan of study will include: Tagging of juvenile salmon (PIT tags) in order to follow life history variation through time to smoltification; lethal sampling of stocked fry in order to sample otoliths; and a diet study in order to better understand competition within a focal study system.

Dated: June 1, 2004.
Marvin E. Moriarty,
Regional Director, Region 5, Fish and Wildlife Service.

[FR Doc. 04-13707 Filed 6-16-04; 8:45 am]

BILLING CODE 4310-55-P